DEPARTMENT OF THE INTERIOR

National Park Service

Lincoln Boyhood National Memorial, Indiana

AGENCY: National Park Service, Interior.

ACTION: Notice of Intent to prepare a General Management Plan and Environmental Impact Statement for Lincoln Boyhood National Memorial, Indiana.

SUMMARY: The National Park Service (NPS) will prepare a General Management Plan (GMP) and an associated Environmental Impact Statement (EIS) for Lincoln Boyhood National Memorial, Indiana, in accordance with section 102(2)(C) of the National Environmental Policy Act of 1969 (NEPA). This notice is being furnished as required by NEPA Regulations 40 CFR 1501.7.

To facilitate sound planning and environmental assessment, the NPS intends to gather information necessary for the preparation of the EIS, and to obtain suggestions and information from other agencies and the public on the scope of issues to be addressed in the EIS. Comments and participation in this scoping process are invited.

Participation in the planning process will be encouraged and facilitated by various means. Notification of all public involvement opportunities will be announced in the local press and in NPS mailings. To begin the public process, the NPS will conduct a scoping meeting to explain the planning effort and to solicit opinion about issues to address in the GMP/EIS.

Dates: Two public scoping meetings will be held on Wednesday, May 3, 2000 at the Lincoln Boyhood National Memorial Visitor Center, Highway 162, in Lincoln City, Indiana. An afternoon session will be held from 1:00 p.m. to 3:00 p.m.; an evening session will be held from 6:30 p.m. to 8:30 p.m. Both sessions will be in the Nancy Hanks Lincoln Hall. More information about the meetings is available from the Superintendent, Lincoln Boyhood National Memorial, at the address and telephone number below.

ADDRESSES: Written comments and information concerning the scope of the EIS and other matters, or requests to be added to the project mailing list should be directed to: Ms. Dusty Shultz, Superintendent, Lincoln Boyhood National Memorial, P.O. Box 1816, Lincoln City, IN 47552-1816. Telephone: 812-937-4541. E-mail: dusty_shultz@nps.gov

FOR FURTHER INFORMATION CONTACT: Superintendent, Lincoln Boyhood National Memorial, at the address and telephone number above.

SUPPLEMENTARY INFORMATION: Lincoln Boyhood National Memorial preserves the site of the farm where Abraham Lincoln spent 14 formative years of his life. He and his family moved to Indiana in 1816 and stayed until 1830 when they moved to Illinois. During this period, Lincoln grew physically and intellectually into a man. The people he knew here and the things he experienced had a profound influence on his life. The time he spent here helped shape the man that went on to lead the country. This site is the most direct tie with that time of his life. Lincoln Boyhood National Memorial is also significant because it represents that period within the history of the preservation movement, when the creation of memorial edifices and landscapes were an important expression of the nation's respect and reverence for Abraham Lincoln.

In accordance with NPS Park Planning policy, the GMP will ensure the Memorial has a clearly defined direction for resource preservation and visitor use. It will be developed in consultation with servicewide program managers, interested parties, and the general public. It will be based on an adequate analysis of existing and potential resource conditions and visitor experiences, environmental impacts, and costs of alternative courses of action.

The environmental review of the GMP/EIS for the Memorial will be conducted in accordance with requirements of the NEPA (42 U.S.C. 4371 et seq.), NEPA regulations (40 CFR 1500-1508), other appropriate Federal regulations, and National Park Service procedures and policies for compliance with those regulations.

Dated: April 12, 2000.
David N. Given,
Acting Regional Director.

[FR Doc. 00-9708 Filed 4-18-00; 8:45 am]

BILLING CODE 4310-70-P